DEPARTMENT OF STATE

[Public Notice 7471]

Advisory Committee on International Economic Policy; Notice of Open Meeting

The Advisory Committee on International Economic Policy (ACIEP) will meet from 3 p.m. to 5 p.m. on Monday, June 20, 2011, in room 1107 of the Harry S. Truman Building at the U.S. Department of State, 2201 C Street NW.,Washington, DC. The meeting will be hosted by the Assistant Secretary of State for Economic, Energy, and Business Affairs Jose W. Fernandez and Committee Chair Ted Kassinger. The ACIEP serves the U.S. Government in a solely advisory capacity, and provides advice concerning issues and challenges in international economic policy. The meeting will focus on issues relating to the advent of cloud computing as a new business model in international trade, the implications of this for multinational corporations, and the role of U.S. international policymaking in this arena. Subcommittee reports and discussions will be led by the Investment Subcommittee, the Economic Sanctions Subcommittee, and the Subcommittee on Women in International Economic Policy.

This meeting is open to public participation, though seating is limited. Entry to the building is controlled; to obtain pre-clearance for entry, members of the public planning to attend should provide, by Thursday, June 16, their name, professional affiliation, valid government-issued ID number (i.e., U.S. Government ID [agency], U.S. military ID [branch], passport [country], or drivers license [state]), date of birth, and citizenship to Sherry Booth by fax (202)647-5936, e-mail (Boothsl@state.gov), or telephone (202) 647-0847. One of the following forms of valid photo identification will be required for admission to the State Department building: U.S. driver's license, U. S. Government identification card, or any valid passport. Enter the Department of State from the entrance on 23rd Street. In view of escorting requirements, non-Government attendees should plan to arrive 15 minutes before the meeting begins. Requests for reasonable accommodation should be made to Sherry Booth prior to Monday, June 13th. Requests made after that date will be considered, but might not be possible to fulfill.

Personal data is requested pursuant to Public Law 99-399 (Omnibus Diplomatic Security and Antiterrorism Act of 1986), as amended; Public Law 107-56 (USA Patriot Act); and Executive Order 13356. The purpose of the collection is to validate the identity of individuals who enter Department facilities. The data will be entered into the Visitor Access Control System (VACS-D) database. Please see the Privacy Impact Assessment for VACS-D at http://www.state.gov/documents/organization/100305.pdf for additional information.

For additional information, contact Deputy Outreach Coordinator Tiffany Enoch, Office of Economic Policy Analysis and Public Diplomacy, Bureau of Economic, Energy and Business Affairs, at (202) 647-2231 or EnochT@state.gov.

This announcement might appear in the Federal Register less than 15 days prior to the meeting. The Department of State finds that there is an exceptional circumstance requiring the ACIEP to hold this public meeting on June 20th, in that the ACIEP has been requested to provide input and information to another Department advisory committee, the Advisory Committee on International Communications and Information Policy, which is holding its public meeting on June 28th.

Dated: June 2, 2011.
Maryruth Coleman,
Office Director, Office of Economic Policy Analysis and Public Diplomacy, U.S. Department of State.

[FR Doc. 2011-14154 Filed 6-7-11; 8:45 am]

BILLING CODE 4710-07-P